DEPARTMENT OF ENERGY

Federal Energy Regulatory Commission

[Docket No. RP04-172-000]

Tennessee Gas Pipeline Company; Notice of Discontinuation of Supply Area Volumetric Surcharge

February 23, 2004.

Take notice that on February 18, 2004, Tennessee Gas Pipeline Company (Tennessee) tendered for filing tariff sheets to discontinue its Supply Area Volumetric Surcharge. Tennessee requests an effective date of February 1, 2004.

Tennessee states that pursuant to Article XXV of the General Terms and Conditions of its FERC Gas Tariff, Fifth Revised Volume No. 1, Tennessee recovers take or pay transition costs through a combination of demand and volumetric surcharges. Tennessee explains that pursuant to Article XXV, section 4.3 of the Tariff, Tennessee is to discontinue the Supply Area Volumetric Surcharge at the end of a month in which the balance in the Supply Area Volumetric Transition Cost subaccount declines to zero. Tennessee states that during the production month of January 2004, the balance in the Supply Area Volumetric Transition Cost subaccount declined to zero. Consequently, Tennessee is discontinuing the Supply Area Volumetric Surcharge effective February 1, 2004. Tennessee indicates that, pursuant to Article XXV, section 4.3 of the Tariff, the surcharge will be reinstated if the balance in the subaccount later becomes positive.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-420 Filed 2-27-04; 8:45 am]

BILLING CODE 6717-01-P